DEPARTMENT OF ENERGY

Federal Energy Regulatory Commission

[Docket No. EL13-86-000]

Grand Valley Rural Power Lines, Inc., Holy Cross Electric Association, Inc., Intermountain Rural Electric Association, Inc., Yampa Valley Electric Association, Inc. v. Public Service Company of Colorado; Notice of Complaint

Take notice that on August 30, 2013, pursuant to Rules 206 and 212 of the Rules of Practice and Procedure of the Federal Energy Regulatory Commission (Commission), 18 CFR 385.206 and 385.212 (2013) and sections 201, 206 and 306 of the Federal Power Act, 16 U.S.C. 824, 824(e) and 825(e) 2013, Grand Valley Rural Power Lines, Inc., Holy Cross Electric Association, Inc., Intermountain Rural Electric Association, Inc., and Yampa Valley Electric Association, Inc. (collectively, Complainants or Cooperative Customers) filed a formal complaint against the Public Service Company of Colorado (Respondent or PSCo), alleging that the ROE component to the production formula rate applicable to the Cooperative Customers under PSCo's Assured Power and Energy Requirements Service Tariff is unjust, unreasonable, and contrary to section 205 of the Federal Power Act. The Complainants request a determination that the appropriate ROE for the production formula rate is 9.04 percent.

The Complainants certify that copies of the complaint were served on the contacts for the Respondents as listed on the Commission's list of Corporate Officials and on parties of the regulatory agencies the Complainants reasonably expect to be affected by this complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on September 19, 2013.

Dated: September 3, 2013.
Nathaniel J. Davis, Sr.,
Deputy Secretary.

[FR Doc. 2013-21958 Filed 9-9-13; 8:45 am]

BILLING CODE 6717-01-P